DEPARTMENT OF HEALTH AND HUMAN SERVICES

Renewal of Cooperative Agreement With the Institut Pasteur International Network

AGENCY: Office of the Assistant Secretary for Preparedness and Response (ASPR), Department of Health and Human Services (HHS).

ACTION: Notice.

SUMMARY: The Office of the Assistant Secretary for Preparedness and Response (ASPR), in the Department of Health and Human Services intends to provide a Single Source Five Year Cooperative Agreement to Institut Pasteur International Network (IPIN) through the Pasteur Foundation. The Cooperative Agreement will support continue to guide and support public health capacities to prepare for, detect, and respond to potential public health emergencies caused by human influenza viruses, zoonotic diseases, and other emerging infectious diseases with pandemic potential in West and Central Africa, and Southeast Asia to support the health security of the United States. The total proposed cost of the Single Source Cooperative Agreement is not to exceed $5 million over the five-year life of the Cooperative Agreement.

DATES:

Project Period: The period of performance is from September 30, 2019 to September 30, 2024.

Award Amount: Estimate $5 million.

FOR FURTHER INFORMATION CONTACT:

Maria Marinissen—Maria .Marinissen@hhs.gov, (202) 205-4214.

Robin Moudy—Robin.Moudy@hhs.gov, 202-260-2105.

SUPPLEMENTARY INFORMATION: The Office of the Assistant Secretary for Preparedness and Response (ASPR), International Policy Branch is the program office for this Cooperative Agreement:

Single Source Justification: Founded in 1887, Institut Pasteur, based in Paris, has an international research network with 33 institutes globally committed to advancing science, medicine and public health, with especially unmatched reach in the Francophone world. This partnership between ASPR and IPIN gives ASPR access to information and the ability to build international partner capacity to prepare for, detect, and respond to potential public health emergencies caused by human influenza viruses, zoonotic diseases, and other emerging infectious diseases with pandemic potential in West and Central Africa, and Southeast Asia that could have an severe impact on the health security of the United States and its citizens.

The focus will be on countries in West and Central Africa, Madagascar, and Southeast Asia (Cambodia) where IPIN is the primary laboratory partner of the host government, although supported partnerships may extend beyond those countries and regions. Prior to each annual award, affiliated laboratories will submit their proposed scope of work, which may be adjusted over the course of the year based on changing needs and priorities or other exigent circumstances, such as a critical outbreak response.

The five-year scope of work of the renewed cooperative agreement will build upon the successes of past activities, including the following overarching objectives:

• Facilitate public health emergency planning, rapid epidemiologic responses, public health event assessment pursuit to the IHR, international data or event reporting as determined by the host government, and assist with emergency management where needed;

• Ensure One Health coordination with the WHO, the World Organization for Animal Health (OIE), national human, animal, and environmental health agencies, and others as needed to address zoonotic disease threats.

• System in place for medical countermeasures distribution during a public health emergency and integrating vaccine coverage as part of national program;

• Interoperable, interconnected, electronic real-time reporting system with emergency operation centers, and risk communication processes in place;

• Improve the quality and scale of public health surveillance, national epidemiologic data, and infectious diseases diagnostics;

• Develop, produce, acquire, and/or deploy novel infectious disease surveillance assays and clinical diagnostic tests during an outbreak;

• Strengthen laboratory biosafety and biosecurity systems, including the ability to scale-up in response to an epidemic caused by a highly dangerous pathogen;

• Real-time reporting system, and risk communication processes in place.

Please submit an inquiry via the ASPR Program Contact: Dr. Robin Moudy, Robin.Moudy@hhs.gov, 202-260-2105.

Authority: Sections 301 and 307 of the Public Health Service Act (42 U.S.C. 241, 242l).

Dated: February 25, 2019.
Robert P. Kadlec,
Assistant Secretary for Preparedness and Response.

[FR Doc. 2019-03846 Filed 3-1-19; 8:45 am]

BILLING CODE 4150-37-P